DEPARTMENT OF THE INTERIOR

U.S. Geological Survey

Agency Information Collection Activities: Mine, Development, and Mineral Exploration Supplement

AGENCY: U.S. Geological Survey (USGS).

ACTION: Notice of an extension of an information collection (1028-0060).

SUMMARY: To comply with the Paperwork Reduction Act of 1995 (PRA), we are notifying the public that we will submit to OMB an information collection request (ICR) to renew approval of the paperwork requirements for “Mine, Development, and Mineral Exploration Supplement, (1 USGS form).” This notice provides the public an opportunity to comment on the paperwork burden of this form.

DATES: Submit written comments by July 27, 2009.

ADDRESSES: Please submit a copy of your comments to Phadrea Ponds, USGS Information Collection Clearance Officer, 2150-C Center Avenue, Fort Collins, CO 80525 (mail); 970-226-9230 (fax); or pponds@usgs.gov (e-mail). Please reference Information Collection 1028-0060 in the subject line.

FOR FURTHER INFORMATION CONTACT: Shonta E. Osborne at 703-648-7960 or by mail at U.S. Geological Survey, 985 National Center, Sunrise Valley Drive, Reston, VA 20192.

SUPPLEMENTARY INFORMATION:

I. Abstract

Respondents supply the U.S. Geological Survey with domestic production, exploration, and mine development data for nonfuel mineral commodities. This information will be published as an Annual Report for use by Government agencies, industry, academia, and the general public. We will protect information from respondents considered proprietary under the Freedom of Information Act (5 U.S.C. 552) and implementing regulations (43 CFR Part 2), and under regulations at 30 CFR 250.197, “Data and information to be made available to the public or for limited inspection.” Responses are voluntary. No questions of a “sensitive” nature are asked.

II. Data

OMB Control Number: 1028-0060.

Title: Mine, Development, and Mineral Exploration Supplement.

Form Number: 9-4000-A.

Respondent Obligation: Voluntary.

Frequency of Collection: Annually.

Estimated Number and Description of Respondents: Approximately 719 nonfuel mineral producers and exploration operations.

Estimated Number of Annual Responses: 719.

Estimated Annual Reporting and Recordkeeping “Hour” Burden: 539 hours. We expect to receive 719 annual responses. We estimate an average of 45 minutes per response. This includes the time for reviewing instructions, gathering and maintaining data, and completing and reviewing the information.

Estimated Reporting and Recordkeeping “Non-Hour Cost” Burden: There are no “non-hour cost” burdens associated with this collection of information.

III. Request for Comments

We invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. We will include or summarize each comment in our request to OMB to approve this ICR. Before including your address, phone number, e-mail address or other personal identifying information in your comment, you should be aware that your entire comment including your personal identifying information, may be made publicly available at any time. While you can ask us in your comment to withhold your personal identifying information from public review, we cannot guarantee that we will be able to do so.

Dated: May 20, 2009.
John H. DeYoung, Jr.,
Chief Scientist, Minerals Information Team.

[FR Doc. E9-12280 Filed 5-26-09; 8:45 am]

BILLING CODE 4311-AM-P